NUCLEAR REGULATORY COMMISSION

[Docket Nos. 50-269, 50-270, and 50-287; NRC-2021-0146]

Notice of Intent To Conduct a Supplemental Scoping Process and Prepare a Draft Environmental Impact Statement; Duke Energy Carolinas, LLC; Oconee Nuclear Station, Units 1, 2, and 3

AGENCY: Nuclear Regulatory Commission.

ACTION: Subsequent license renewal environmental report supplement; intent to conduct a supplemental scoping process and prepare a draft environmental impact statement; extension of comment period.

SUMMARY: On December 19, 2022, the U.S. Nuclear Regulatory Commission (NRC) issued a Federal Register notice detailing its intent to conduct an additional limited scoping process to gather information necessary to prepare a supplement to its environmental impact statement (EIS) to evaluate the environmental impacts of subsequent license renewal (SLR) of Renewed Facility Operating License Nos. DPR-38, DPR-47, and DPR-55 for Oconee Nuclear Station (Oconee), Units 1, 2, and 3. The NRC is seeking public comment on the proper scope of the EIS supplement to be prepared for this action. The comment period was originally scheduled to close on January 18, 2023. The NRC has decided to extend the public scoping period to allow more time for members of the public to develop and submit their comments.

DATES: The due date of comments in the document published December 19, 2022 (87 FR 77643) is extended. Comments should be filed not later than February 2, 2023. Comments received after this date will be considered if it is practical to do so, but the NRC is able to ensure consideration only for comments received on or before this date.

ADDRESSES: You may submit comments by any of the following methods; however, the NRC encourages electronic comment submission through the Federal rulemaking website (https://www.regulations.gov).

• Federal rulemaking website: Go to https://www.regulations.gov and search for Docket ID NRC-2021-0146. Address questions about Docket IDs in Regulations.gov to Stacy Schumann; telephone: 301-287-0624; email: Stacy.Schumann@nrc.gov. For technical questions, contact the individual listed in the FOR FURTHER INFORMATION CONTACT section of this document.

• Email: Comments may be submitted to the NRC electronically using the email address OconeeEnvironmental@nrc.gov.

• Mail comments to: Office of Administration, Mail Stop: TWFN-7-A60M, U.S. Nuclear Regulatory Commission, Washington, DC 20555-0001, ATTN: Program Management, Announcements and Editing Staff.

For additional direction on obtaining information, see “Obtaining Information” in the SUPPLEMENTARY INFORMATION section of this document.

FOR FURTHER INFORMATION CONTACT: Lance Rakovan, Office of Nuclear Material Safety and Safeguards, U.S. Nuclear Regulatory Commission, Washington, DC 20555-0001; telephone: 301-415-2589; email: Lance.Rakovan@nrc.gov.

SUPPLEMENTARY INFORMATION:

I. Obtaining Information and Submitting Comments

A. Obtaining Information

Please refer to Docket ID NRC-2021-0146 when contacting the NRC about the availability of information for this action. You may obtain publicly available information related to this action using any of the following methods:

• Federal Rulemaking website: Go to https://www.regulations.gov and search for Docket ID NRC-2021-0146.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

• Public Library: A copy of the ER Supplement is available for public review at the Oconee County Public Library, 300 E. South 2nd St, Seneca, SC 29678

B. Submitting Comments

The NRC encourages electronic comment submission through the Federal rulemaking website (https://www.regulations.gov). Please include Docket ID NRC-2021-0146 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On December 19, 2022, the NRC issued a Federal Register notice (87 FR 77643) detailing its intent to conduct an additional limited scoping process to gather information necessary to prepare a supplement to its EIS to evaluate the environmental impacts of SLR of Renewed Facility Operating License Nos. DPR-38, DPR-47, and DPR-55 for Oconee.

By letter dated June 7, 2021, Duke Energy Carolinas, LLC (Duke Energy, the applicant) submitted to the NRC an application for subsequent license renewal of Renewed Facility Operating License Nos. DPR-38, DPR-47, and DPR-55 for Oconee, Units 1, 2, and 3 (ADAMS Package Accession No. ML21158A193). Later, the NRC received Subsequent License Renewal—Appendix E Environmental Report Supplement 2 (ER Supplement), dated November 7, 2022 (ADAMS Accession No. ML22311A036), in response to NRC's Memorandum and Order, CLI-22-03 (February 24, 2022) (ADAMS Accession No. ML22055A554). The NRC staff intends to prepare a Draft Supplemental Environmental Impact Statement (DSEIS) for Oconee subsequent license renewal. The subsequent renewed operating licenses would authorize the applicant to operate Oconee for an additional 20 years beyond the period specified in each of the current licenses.

The NRC is conducting an additional limited scoping process to gather information necessary to prepare a supplement to its EIS to evaluate the environmental impacts of SLR of the operating licenses for Oconee. The NRC is seeking public comment on the proper scope of the EIS supplement to be prepared for this action.

The public comment period was originally scheduled to close on January 18, 2023. The NRC has decided to extend the public comment period until February 2, 2023, to allow more time for members of the public to submit their comments. Comments of Federal, State, and local agencies, Indian Tribes or other interested persons will be made available for public inspection when received.

Dated: January 11, 2023.
For the Nuclear Regulatory Commission.
John M. Moses,
Deputy Director, Division of Rulemaking, Environmental, and Financial Support, Office of Nuclear Materials, Safety and Safeguards.

[FR Doc. 2023-00679 Filed 1-13-23; 8:45 am]

BILLING CODE 7590-01-P